DEPARTMENT OF DEFENSE

Department of the Air Force

Notice of Intent To Prepare an Environmental Impact Statement (EIS) for the Brooks City Base Project, Brooks Air Force Base (AFB), Texas

The United States Air Force is issuing this notice to advise the public of its intention to prepare an EIS for the Brooks City Base Project (BCBP). The EIS will be prepared pursuant to the National Environmental Policy Act (NEPA) of 1969, as amended (42 U.S.C. 4321, et seq.), the Council on Environmental Quality (CEQ) Regulations for Implementing the Procedural Provisions of NEPA (40 CFR parts 1500 to 1508), and Air Force policy and procedures (32 CFR part 989). The BCBP is authorized under the provisions of the Fiscal year 2000 Defense Appropriations Act, Public Law 106-79, section 8168. It is intended to improve mission effectiveness and asset management and reduce the cost of providing quality installation support services at Brooks AFB.

Under the BCBP, the Air Force proposes to convey all or portions of the approximately 1,310 acres of base real property to the City of San Antonio or other public or private entity and lease back those facilities required to support the continuing Air Force mission. The City of San Antonio or other entity would develop available portions of the base property in a manner that is not inconsistent with continuing Brooks AFB mission activities.

The EIS will address the potential environmental impacts associated with the proposed BCBP. The Proposed Action is a transfer/leaseback of Brooks AFB property. Alternatives include Air Force outgrant of portions of the base, under which the Air Force would retain ownership, and the no-action alternative, under which the BCBP would not be implemented. The analysis will examine the reasonably foreseeable environmental consequences of the Proposed Action and alternatives under several different land use scenarios.

To provide a forum for public officials and the community to provide information and comments on the project, the Air Force will hold a public scoping meeting in San Antonio at the following location near Brooks AFB:

Date: July 12, 2000.

Location: Slattery Hall, 9006 Villamain Road, San Antonio, Texas 78223.

Time: 7-9 p.m.

Notice of the time and location of the meeting will also be announced in local newspapers. The purpose of the meeting is to: (1) Identify the environmental issues and concerns that should be analyzed; (2) solicit comments on the Proposed Action and alternatives; and (3) solicit potential alternatives to the Proposed Action. in soliciting information on potential alternatives, the Air Force will consider reasonable alternatives offered during the public scoping period, currently scheduled to continue through August 4, 2000.

To ensure sufficient time to adequately consider public input concerning environmental issues and alternatives to be included in the EIS, the Air Force recommends that comments be forwarded to the address listed below by the end of the scoping period. The Air Force will, however, accept additional comments at any time during the environmental impact analysis process.

Please direct written comments or requests for further information concerning the BCBP EIS to Mr. Jonathan D. Farthing, HQ AFCEE/ECA, 3207 North Road, Brooks Air Force Base, Texas 78235-5363; (210) 536-3668.

Janet A. Long,
Air Force Federal Register Liaison Officer.

[FR Doc. 00-15286 Filed 6-15-00; 8:45 am]

BILLING CODE 5001-05-M